DEPARTMENT OF ENERGY

Federal Energy Regulatory Commission

[Docket No. RP01-418-000]

Equitrans, L.P.; Notice of Proposed Changes In FERC Gas Tariff

May 18, 2001.

Take notice that on May 15, 2001, Equitrans, L.P. (Equitrans) tendered for filing as parts of its FERC Gas Tariff Original Volume No. 1 the following revised tariff sheets, with an effective date of May 15, 2001:

First Revised Sheet No. 229 Superseding Original Sheet No. 229

First Revised Sheet No. 230 Superseding Original Sheet No. 230

Second Revised Sheet No. 258 Superseding First Revised Sheet No. 258

First Revised Sheet No. 277 Superseding Original Sheet No. 277

First Revised Sheet No. 278 Superseding Original Sheet No. 278

Third Revised Sheet No. 308 Superseding Second Revised Sheet No. 308

Equitrans states that the tariff sheets are being filed to implement its new gas transportation management system in accord with Version 1.4 of the GISB Standards as required by Order No. 587-M, issued on November 30, 2000, in Docket No. RM96-1-015, 93 FERC 61,223 (2000).

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-13087 Filed 5-23-01; 8:45 am]

BILLING CODE 6717-01-M